DEPARTMENT OF COMMERCE

National Ocean and Atmospheric Administration

Proposed Information Collection; Comment Request; Non-Economic Valuation of Subsistence Salmon in Alaska

AGENCY: National Ocean and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 22, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Amber Himes-Cornell, 206-526-4221 or amber.himes@noaa.gov.

SUPPLEMENTARY INFORMATION:

I. Abstract

This request is for a new information collection.

The National Oceanic and Atmospheric Administration's (NOAA) National Ocean Service (NOS) and National Marine Fisheries Service's Alaska Fisheries Science Center propose to collect data on non-economic values related to subsistence salmon fishing and use in Alaska. Data are needed to support Natural Resource Damage Assessment (NRDA) and resource restoration analysis and activities. NRDA is a legal process to determine the type and amount of restoration needed to compensate the public for harm to natural resources and their human uses that occur as a result of an oil spill or other hazardous substance release. Through the NRDA process, NOAA and co-trustees identify the extent of natural resource injuries and the amount and type of restoration required to restore public trust resources to baseline conditions.

For this study, researchers have developed a survey instrument to quantify non-economic values, including (1) the value subsistence fishing adds to an individual or community's way of life, (2) the value of the subsistence resources in cultural or religious practices, roles, language, knowledge and skill transfer and (3) the value of the subsistence resources harvested. Alaska, with an abundance of natural and energy resources that are co-located with subsistence harvesting grounds, is a logical place for NOAA to develop assessment tools. This pilot project tests a set of survey questions for their ability to provide NOAA with adequate information to assess non-economic values of subsistence resource harvest that might be damaged by a hazardous substance release event. We focus on Alaska's subsistence salmon fishery because of its size, geographic range, and significance to multiple types of communities, families and individual commercial, recreational, and subsistence fishermen. We further focus on subsistence use of salmon because of its importance to rural residents and Alaska Natives who rely on natural resources for food, shelter, clothing, the maintenance of cultural traditions, and other aspects of Alaskan Native life. The data collection is expected to take place between fall 2015 and spring 2016.

II. Method of Collection

Members of the research team will administer a questionnaire in person in an interview-style setting with each respondent.

III. Data

OMB Control Number: 0648-xxxx.

Form Number(s): None.

Type of Review: Regular submission (request for a new information collection).

Affected Public: Individuals or households.

Estimated Number of Respondents: 600.

Estimated Time per Response: 45 minutes.

Estimated Total Annual Burden Hours: 450.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 16, 2014.
Glenna Mickelson,
Management Analyst, Office of the Chief Information Officer.

[FR Doc. 2014-25026 Filed 10-21-14; 8:45 am]

BILLING CODE 3510-JS-P